DEPARTMENT OF TRANSPORTATION

Federal Aviation Administration

Termination of the Preparation of an Air Tour Management Plan and Environmental Assessment for Big Cypress National Preserve, Florida

AGENCY: Federal Aviation Administration, Department of Transportation.

ACTION: Notice of Termination of the Preparation of Air Tour Management Plan and Environmental Assessment.

SUMMARY: The Federal Aviation Administration (FAA), in cooperation with the National Park Service (NPS), announces that it will no longer prepare an Air Tour Management Plan (ATMP) and Environmental Assessment (EA) for commercial air tour operations over Big Cypress National Preserve in Florida. The FAA and NPS have stopped work on preparation of the ATMP and EA based upon a provision included in the FAA Modernization and Reform Act of 2012 that allowed the agencies and air tour operator(s) to enter into a voluntary agreement as an alternative to an ATMP.

FOR FURTHER INFORMATION CONTACT: Keith Lusk, Program Manager, AWP-1SP, Federal Aviation Administration, Western-Pacific Region, 15000 Aviation Boulevard, Lawndale, California 90261. Telephone: (310) 725-3808.

SUPPLEMENTARY INFORMATION: In an April 19, 2011 Federal Register notice (76 FR 21938), the FAA in cooperation with the National Park Service (NPS) provided notice of its intent to develop an EA for the ATMP at Big Cypress National Preserve, pursuant to the National Parks Air Tour Management Act of 2000 (Pub. L. 106-181) and its implementing regulations contained in 14 CFR part 136, subpart B, National Parks Air Tour Management. The ATMP process for Big Cypress National Preserve was initiated based on receipt of an application for operating authority from an existing commercial air tour operator to conduct commercial air tour operations over this park unit. In accordance with NPATMA and based on the existing level of operations at the time of the application, the FAA issued interim operating authority (IOA) to the commercial air tour operator to conduct an annual total of 1,260 commercial air tours over the park until such time as an ATMP was developed. The FAA and NPS began preparing an EA to comply with the National Environmental Policy Act (Pub. L. 91-190), which requires Federal agencies to consider the environmental impacts associated with a major federal action.

The FAA Modernization and Reform Act of 2012 (Pub. L. 112-95) amended various provisions of NPATMA. One provision provided that as an alternative to an ATMP, to manage commercial air tour operations over a national park, the NPS and the FAA, may enter into a voluntary agreement with a commercial air tour operator (including a new entrant commercial air tour operator and an operator that has IOA) that has applied to conduct commercial air tour operations over a national park. The FAA and NPS entered into voluntary agreements with one existing and one new entrant commercial air tour operator for tours over Big Cypress National Preserve. The voluntary agreements became effective in December 2015. Copies of the voluntary agreements can be found at: http://www.faa.gov/about/office_org/headquarters_offices/arc/programs/air_tour_management_plan/park_specific_plans/big_cypress/.

As the agencies and the operators entered into voluntary agreements for commercial air tour operations over Big Cypress National Preserve, an ATMP is no longer required. Therefore, the FAA, in cooperation with the NPS, has stopped work and discontinued the preparation of the ATMP and EA for Big Cypress National Preserve.

Issued in Lawndale, California, on June 26, 2017.
Keith Lusk,
Program Manager, Special Programs Staff, Western-Pacific Region.

[FR Doc. 2017-13992 Filed 6-30-17; 8:45 am]

BILLING CODE 4910-13-P